DEPARTMENT OF THE INTERIOR

Minerals Management Service

30 CFR Part 250

RIN 1010-AC43

Oil and Gas and Sulphur Operations in the Outer Continental Shelf—Oil and Gas Drilling Operations

AGENCY: Minerals Management Service (MMS), Interior.

ACTION: Extension of comment period for proposed rule.

SUMMARY: This document extends to October 19, 2000, the deadline for submitting comments on the proposed rule which restructures the requirements for oil and gas drilling operations on the Outer Continental Shelf (OCS), adds some new requirements, and converts the rule into plain language.

DATES: We will consider all comments received by October 19, 2000, and we may not fully consider comments received after October 19, 2000.

ADDRESSES: Mail or hand-carry written comments (three copies) to the Department of the Interior; Minerals Management Service; 381 Elden Street; Mail Stop 4024; Herndon, Virginia 20170-4817; Attention: Rules Processing Team. The RPT's e-mail address is: rules.comment@MMS.gov.

FOR FURTHER INFORMATION CONTACT: Bill Hauser, Engineering and Operations Division, at (703) 787-1600.

SUPPLEMENTARY INFORMATION: MMS was asked to extend the deadline for submitting comments on the proposed regulations revising 30 CFR part 250, Subpart D, Oil and Gas Drilling Operations, published on June 21, 2000 (65 FR 38453). The request explains that the proposed rule has a number of important changes that require careful consideration for comprehensive comments. Also, because the proposed rule was rewritten in the “plain language” style and completely restructures and reorders the current regulations in 30 CFR Part 250, subpart D, additional time was requested to sort out the proposed rule for comparison.

Public Comments Procedures

Our practice is to make comments, including names and home addresses of respondents, available for public review during regular business hours. Individual respondents may request that we withhold their home address from the rulemaking record, which we will honor to the extent allowable by law. There may be circumstances in which we would withhold from the rulemaking record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

Dated: July 20, 2000.
E.P. Danenberger,
Chief, Engineering and Operations Division.

[FR Doc. 00-19025 Filed 7-26-00; 8:45 am]

BILLING CODE 4310-MR-P